DEPARTMENT OF TRANSPORTATION

Federal Aviation Administration

14 CFR Part 91

[Docket No.: FAA-2015-8059; Amendment No. 91-333A]

RIN 2120-AA66

Airports/Locations: Special Operating Restrictions

AGENCY: Federal Aviation Administration (FAA), DOT.

ACTION: Final rule; technical amendment.

SUMMARY: This action amends the Appendix listing airports/locations with special operating restrictions in FAA's general operating and flight rules. Specifically, this action corrects the entry for Kansas City, MO (Kansas City International Airport) and updates the name of twelve (12) other airports listed in Appendix D, section 1. Additionally, this action updates the name of thirteen (13) airports listed in Appendix D, section 3, and the name of four (4) airports listed in Appendix D, section 4. The FAA is taking this action to correctly identify the airports listed in the appropriate special operating restrictions sections of the Appendix consistent with FAA aeronautical database information.

DATES: Effective Date: September 1, 2016.

FOR FURTHER INFORMATION CONTACT: Colby Abbott, Airspace Policy Group, AJV-11, Federal Aviation Administration, 800 Independence Avenue SW., Washington, DC 20591; telephone (202) 267-8783, email colby.abbott@faa.gov.

SUPPLEMENTARY INFORMATION:

Background

Title 14 of the Code of Federal Regulations (14 CFR), part 91, appendix D, sections 1, 3, and 4, list the airports where special operating restrictions apply. Specifically, section 1 lists the locations at which aircraft operating within 30 nautical miles (NM) of the listed airports, from the surface upward to 10,000 feet mean sea level (MSL), must be equipped with an altitude encoding transponder. The locations listed in this section are intended to be the Class B airspace area primary airports. Further, section 3 lists the locations at which aircraft fixed-wing Special VFR operations are prohibited and section 4 lists the locations at which solo student, sport, and recreational pilot activity is not permitted.

On April 28, 1975, the FAA issued a final rule (40 FR 18414) Docket No. 73-WA-11, FR. Doc. 75-10970, which established the Kansas City, Missouri (MO), Terminal Control Area (TCA), listing the Kansas City International Airport as the primary airport. In 1993, as a result of the Airspace Reclassification rule (56 FR 65638) Docket No. 24456, FR Doc. 91-29869, TCAs were changed to Class B airspace areas and the Kansas City, MO, TCA became the Kansas City, MO, Class B airspace area with the Kansas City International Airport listed as the primary airport. However, when the Airspace Reclassification final rule amended the regulatory text in 14 CFR 91.215(b)(2) to read “All aircraft. In all airspace within 30 nautical miles of an airport listed in appendix D, section 1 of this part . . .”, the airports listed in Appendix D, section 1, inadvertently included Kansas City, KS (Mid-Continent International Airport) in error instead of Kansas City, MO (Kansas City International Airport). This action corrects that inadvertent error in Appendix D, section 1.

Further review of the airports listed in Appendix D, section 1, highlighted that the airport name for twelve other airports listed in the section were incorrect and had changed since originally having been included as a result of the Airspace Reclassification rule. The twelve airports include: Hartsfield-Jackson Atlanta International Airport, Baltimore/Washington International Thurgood Marshall Airport, Cincinnati/Northern Kentucky International Airport, Dallas/Fort Worth International Airport, Detroit Metropolitan Wayne County Airport, George Bush Intercontinental/Houston Airport, Minneapolis-St. Paul International/Wold-Chamberlain Airport, Newark Liberty International Airport, Louis Armstrong New Orleans International Airport, Pittsburgh International Airport, Miramar Marine Corps Air Station, and Joint Base Andrews.

Similarly, review of the airports listed in appendix D, section 3, identified that the airport name for thirteen airports listed in the section were incorrect and had changed since originally having been included as a result of the Airspace Reclassification rule. The thirteen airports include: Hartsfield-Jackson Atlanta International Airport, Baltimore/Washington International Thurgood Marshall Airport, Cincinnati/Northern Kentucky International Airport, Dallas/Fort Worth International Airport, Dallas Love Field Airport, Detroit Metropolitan Wayne County Airport, George Bush Intercontinental/Houston Airport, Louisville International Airport-Standiford Field, Minneapolis-St. Paul International/Wold-Chamberlain Airport, Newark Liberty International Airport, Louis Armstrong New Orleans International Airport, Pittsburgh International Airport, and Joint Base Andrews.

Lastly, review of the airports listed in appendix D, section 4, identified that the airport name for four airports listed in the section were incorrect and had changed since originally having been included as a result of the Airspace Reclassification rule. The four airports include: Hartsfield-Jackson Atlanta International Airport, Dallas/Fort Worth International Airport, Newark Liberty International Airport, and Joint Base Andrews.

This action administratively updates the airport names listed in Appendix D, sections 1, 3, and 4 to correctly identify the airports consistent with FAA aeronautical database information.

The Rule

The FAA is amending 14 CFR part 91, Appendix D, sections 1, 3, and 4 to correct an inadvertent error listing Kansas City, KS (Mid-Continent International Airport) instead of Kansas City, MO (Kansas City International Airport) in section 1, and update the airport names listed in sections 1, 3, and 4 to match FAA aeronautical database information. Additionally, this action corrects a typographic format error for the Chicago, IL, entry in section 1. The amendments are as follows:

Appendix D, Section 1

Change “Atlanta, GA (The William B. Hartsfield Atlanta International Airport)” to “Atlanta, GA (Hartsfield-Jackson Atlanta International Airport)”.

Change “Baltimore, MD (Baltimore Washington International Airport)” to “Baltimore, MD (Baltimore/Washington International Thurgood Marshall Airport)”.

Add “Camp Springs, MD (Joint Base Andrews)” where it falls alphabetically.

Change “Chicago, IL Chicago-O'Hare International Airport)” to “Chicago, IL (Chicago-O'Hare International Airport)”.

Change “Covington, KY (Cincinnati Northern Kentucky International Airport)” to “Covington, KY (Cincinnati/Northern Kentucky International Airport)”.

Change “Dallas, TX (Dallas/Fort Worth Regional Airport)” to “Dallas, TX (Dallas/Fort Worth International Airport)”.

Change “Detroit, MI (Metropolitan Wayne County Airport)” to “Detroit, MI (Detroit Metropolitan Wayne County Airport)”.

Change “Houston, TX (George Bush Intercontinental Airport/Houston)” to “Houston, TX (George Bush Intercontinental/Houston Airport)”.

Change “Kansas City, KS (Mid-Continent International Airport)” to “Kansas City, MO (Kansas City International Airport)”.

Change “Minneapolis, MN (Minneapolis-St. Paul International Airport)” to “Minneapolis, MN (Minneapolis-St. Paul International/Wold-Chamberlain Airport)”.

Change “Newark, NJ (Newark International Airport)” to “Newark, NJ (Newark Liberty International Airport)”.

Change “New Orleans, LA (New Orleans International Airport-Moisant Field)” to “New Orleans, LA (Louis Armstrong New Orleans International Airport)”.

Change “Pittsburgh, PA (Greater Pittsburgh International Airport)” to “Pittsburgh, PA (Pittsburgh International Airport)”.

Change “San Diego, CA (Marine Corps Air Station Miramar)” to “San Diego, CA (Miramar Marine Corps Air Station)”.

Change “Washington, DC (Ronald Reagan Washington National Airport and Andrews Air Force Base, MD)” to “Washington, DC (Ronald Reagan Washington National Airport)”.

Appendix D, Section 3

Change “Atlanta, GA (The William B. Hartsfield Atlanta International Airport)” to “Atlanta, GA (Hartsfield-Jackson Atlanta International Airport)”.

Change “Baltimore, MD (Baltimore Washington International Airport)” to “Baltimore, MD (Baltimore/Washington International Thurgood Marshall Airport)”.

Add “Camp Springs, MD (Joint Base Andrews)” where it falls alphabetically.

Change “Covington, KY (Cincinnati Northern Kentucky International Airport)” to “Covington, KY (Cincinnati/Northern Kentucky International Airport)”.

Change “Dallas, TX (Dallas/Fort Worth Regional Airport)” to “Dallas, TX (Dallas/Fort Worth International Airport)”.

Change “Dallas, TX (Love Field)” to “Dallas, TX (Dallas Love Field Airport)”.

Change “Detroit, MI (Metropolitan Wayne County Airport)” to “Detroit, MI (Detroit Metropolitan Wayne County Airport)”.

Change “Houston, TX (George Bush Intercontinental Airport/Houston)” to “Houston, TX (George Bush Intercontinental/Houston Airport)”.

Change “Louisville, KY (Standiford Field)” to “Louisville, KY (Louisville International Airport-Standiford Field)”.

Change “Minneapolis, MN (Minneapolis-St. Paul International Airport)” to “Minneapolis, MN (Minneapolis-St. Paul International/Wold-Chamberlain Airport)”.

Change “Newark, NJ (Newark International Airport)” to “Newark, NJ (Newark Liberty International Airport)”.

Change “New Orleans, LA (New Orleans International Airport-Moisant Field)” to “New Orleans, LA (Louis Armstrong New Orleans International Airport)”.

Change “Pittsburgh, PA (Greater Pittsburgh International Airport)” to “Pittsburgh, PA (Pittsburgh International Airport)”.

Change “Washington, DC (Ronald Reagan Washington National Airport and Andrews Air Force Base, MD)” to “Washington, DC (Ronald Reagan Washington National Airport)”.

Appendix D, Section 4

Change “Atlanta, GA (The William B. Hartsfield Atlanta International Airport)” to “Atlanta, GA (Hartsfield-Jackson Atlanta International Airport)”.

Add “Camp Springs, MD (Joint Base Andrews)” where it falls alphabetically.

Change “Dallas, TX (Dallas/Fort Worth Regional Airport)” to “Dallas, TX (Dallas/Fort Worth International Airport)”.

Change “Newark, NJ (Newark International Airport)” to “Newark, NJ (Newark Liberty International Airport)”.

Remove “Andrews Air Force Base, MD”.

Administrative Procedure Act

The Administrative Procedure Act (5 U.S.C. 553(b)) requires agencies to publish a notice of proposed rulemaking and provide opportunity for comment except when the agency for good cause finds (and incorporates the finding and a brief statement of reasons therefor in the rules issued) that notice and public procedure thereon are impracticable, unnecessary, or contrary to the public interest. The FAA finds that notice and the opportunity for comment are unnecessary for this action as the action merely changes the names of airports to conform to the names included in the FAA aeronautical database. The FAA also finds that not changing these names in the regulations is contrary to the public interest as not changing the names could cause confusion or errors in charts or other documents produced using the aeronautical database and regulations.

List of Subjects in 14 CFR Part 91

Air traffic control, Aircraft, Airmen, Airports, Aviation safety.

The Amendment

In consideration of the foregoing, the Federal Aviation Administration amends Title 14 of the Code of Federal Regulations part 91, as follows:

PART 91—GENERAL OPERATING AND FLIGHT RULES

1. The authority citation for part 91 continues to read as follows:

Authority: 49 U.S.C. 106(f), 106(g), 1155, 40101, 40103, 40105, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. Amend appendix D to part 91 as follows:

a. In Section 1, by revising the entries for Atlanta, GA; Baltimore, MD; Chicago, IL; Covington, KY; Dallas, TX; Detroit, MI; the first Houston, TX, entry; Minneapolis, MN; Newark, NJ; New Orleans, LA; Pittsburgh, PA; the first San Diego, CA, entry; and Washington, DC; adding entries for Camp Springs, MD, and Kansas City, MO in alphabetical order; and removing the entry for Kansas City, KS.

b. In Section 3, by revising the entries for Atlanta, GA; Baltimore, MD; Covington, KY; both Dallas, TX, entries; Detroit, MI; Houston, TX; Louisville, KY; Minneapolis, MN; Newark, NJ; New Orleans, LA; Pittsburgh, PA; and Washington, DC; and adding an entry for Camp Springs, MD, in alphabetical order.

c. In Section 4, by revising the entries for Atlanta, GA; Dallas, TX; and Newark, NJ; removing Andrews Air Force Base, MD; and adding an entry for Camp Springs, MD, in alphabetical order.

The revisions read as follows:

Appendix D to Part 91—Airports/Locations: Special Operating Restrictions

Section 1. * * *

Atlanta, GA (Hartsfield-Jackson Atlanta International Airport)

Baltimore, MD (Baltimore/Washington International Thurgood Marshall Airport)

* * * * *

Camp Springs, MD (Joint Base Andrews)

* * * * *

Chicago, IL (Chicago-O'Hare International Airport)

* * * * *

Covington, KY (Cincinnati/Northern Kentucky International Airport)

Dallas, TX (Dallas/Fort Worth International Airport)

* * * * *

Detroit, MI (Detroit Metropolitan Wayne County Airport)

* * * * *

Houston, TX (George Bush Intercontinental/Houston Airport)

* * * * *

Kansas City, MO (Kansas City International Airport)

* * * * *

Minneapolis, MN (Minneapolis-St. Paul International/Wold-Chamberlain Airport)

Newark, NJ (Newark Liberty International Airport)

New Orleans, LA (Louis Armstrong New Orleans International Airport)

* * * * *

Pittsburgh, PA (Pittsburgh International Airport)

* * * * *

San Diego, CA (Miramar Marine Corps Air Station)

* * * * *

Washington, DC (Ronald Reagan Washington National Airport)

* * * * *

Section 3. * * *

* * * * *

Atlanta, GA (Hartsfield-Jackson Atlanta International Airport)

Baltimore, MD (Baltimore/Washington International Thurgood Marshall Airport)

* * * * *

Camp Springs, MD (Joint Base Andrews)

* * * * *

Covington, KY (Cincinnati/Northern Kentucky International Airport)

Dallas, TX (Dallas/Fort Worth International Airport)

Dallas, TX (Dallas Love Field Airport)

* * * * *

Detroit, MI (Detroit Metropolitan Wayne County Airport)

* * * * *

Houston, TX (George Bush Intercontinental/Houston Airport)

* * * * *

Louisville, KY (Louisville International Airport-Standiford Field)

* * * * *

Minneapolis, MN (Minneapolis-St. Paul International/Wold-Chamberlain Airport)

Newark, NJ (Newark Liberty International Airport)

* * * * *

New Orleans, LA (Louis Armstrong New Orleans International Airport)

* * * * *

Pittsburgh, PA (Pittsburgh International Airport)

* * * * *

Washington, DC (Ronald Reagan Washington National Airport)

Section 4. * * *

* * * * *

Atlanta, GA (Hartsfield-Jackson Atlanta International Airport)

* * * * *

Camp Springs, MD (Joint Base Andrews)

* * * * *

Dallas, TX (Dallas/Fort Worth International Airport)

* * * * *

Newark, NJ (Newark Liberty International Airport)

* * * * *

Issued in Washington, DC, on July 14, 2016.
Dale A. Bouffiou,
Acting Director, Office of Rulemaking.

[FR Doc. 2016-17161 Filed 8-1-16; 8:45 am]

BILLING CODE 4910-13-P